DEPARTMENT OF STATE

Redelegation of Authorities by the Secretary of State, From the Under Secretary of State for Management to the Assistant Secretary of State for Diplomatic Security; Delegation of Authority 241

By virtue of the authority vested in me by the laws of the United States, including the Clinger-Cohen Act of 1996, the Diplomatic Security Act of 1986, the Foreign Service Act of 1980, the Immigration and Nationality Act of 1952, and the State Department Basic Authorities Act of 1956, I hereby delegate to David G. Carpenter, the Assistant Secretary for Diplomatic Security, to the extent authorized by law, all authorities vested in the Under Secretary of State for Management, including all authorities vested in the Secretary of State that have been or may be delegated or redelegated to that Under Secretary.

Any authorities covered by this delegation may also be exercised by the Deputy Secretary, the Under Secretary for Political Affairs, or the Under Secretary for Economic, Business and Agricultural Affairs.

This delegation shall expire upon the appointment of an individual to serve as Under Secretary of State for Management.

This memorandum shall be published in the Federal Register.

Dated: January 22, 2001.
Colin L. Powell,
Secretary of State.

[FR Doc. 01-4999 Filed 3-1-01; 8:45 am]

BILLING CODE 4710-10-U